DEPARTMENT OF HEALTH AND HUMAN SERVICES

National Institutes of Health

National Cancer Institute; Amended Notice of Meeting

Notice is hereby given of a change in the meeting of the National Cancer Institute Special Emphasis Panel, March 02, 2017, 12:00 p.m. to March 02, 2017, 04:00 p.m., National Cancer Institute Shady Grove, 9609 Medical Center Drive, 7W538, Rockville, MD, 20850 which was published in the Federal Register on January 27, 2017, 82 FR 8620.

The meeting notice is amended to change the date of the meeting to March 8, 2017 from 12:00 p.m. to 4:00 p.m. The meeting is closed to the public.

Dated: February 1, 2017.
Melanie J. Pantoja,
Program Analyst, Office of Federal Advisory Committee Policy.

[FR Doc. 2017-02431 Filed 2-6-17; 8:45 am]

BILLING CODE 4140-01-P